DEPARTMENT OF TRANSPORTATION

Federal Aviation Administration

14 CFR Part 71

[Docket No. FAA-2009-0650; Airspace Docket No. 09-ASO-20]

Amendment of Class E Airspace; Myrtle Beach, SC

AGENCY: Federal Aviation Administration (FAA), DOT.

ACTION: Final rule.

SUMMARY: This action changes the airport name for the Myrtle Beach, SC, Class E airspace area from Myrtle Beach AFB, to Myrtle Beach International Airport. This action also will update the geographic coordinates of the airports within the controlled airspace.

DATES: Effective 0901 UTC, February 11, 2010. The Director of the Federal Register approves this incorporation by reference action under Title 1, Code of Federal Regulations, part 51, subject to the annual revision of FAA Order 7400.9 and publication of conforming amendments.

FOR FURTHER INFORMATION CONTACT: Melinda Giddens, Operations Support Group, Eastern Service Center, Federal Aviation Administration, P.O. Box 20636, Atlanta, Georgia 30320; telephone (404) 305-5610.

SUPPLEMENTARY INFORMATION:

History

The FAA assumed responsibility for the Air Traffic Control Tower at Myrtle Beach AFB from the United States Air Force on December 27, 1992. On February 12, 1997, a final rule published in the Federal Register (62 FR 6698) established Class C airspace, revoked Class D airspace, and changed the airport name to Myrtle Beach International Airport, Myrtle Beach, SC. However, the existing Class E airspace area for Myrtle Beach, SC, was not amended to reflect the airport name change. This action will make that change. There are no changes to the boundaries or altitudes within this airspace area. Designations for Class E airspace areas extending upward from 700 feet or more above the surface of the earth are published in FAA Order 7400.9T, signed August 27, 2009, and effective September 15, 2009, which is incorporated by reference in 14 CFR part 71.1. The Class E designations listed in this document will be published subsequently in the Order.

The Rule

This action amends Title 14, Code of Federal Regulations (14 CFR) part 71 by denoting the renaming of the airport from Myrtle Beach AFB, to Myrtle Beach International Airport, Myrtle Beach, SC. This action also adjusts the geographic coordinates of Myrtle Beach International Airport and Grand Strand Airport to coincide with the FAA's National Aeronautical Charting Office. There are no changes to the boundaries or altitudes within this airspace area.

The FAA has determined that this regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the U.S. Code. Subtitle 1, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation in within the scope of that authority as it amends the airspace description for Myrtle Beach, SC, Class E airspace.

Accordingly, since this action merely involves a change in the legal description of the Myrtle Beach, SC, Class E airspace area, and does not involve a change in the dimensions or operating requirements of that airspace, notice and public comment under 5 U.S.C. 553(b) are unnecessary.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, and effective September 15, 2009, is amended as follows:

Paragraph 6005 Class E Airspace Areas Extending Upward From 700 Feet or More Above the Surface of the Earth.

* * * * *

ASO SC E5 Myrtle Beach, SC [Amended]

Myrtle Beach International Airport, SC

(Lat. 33°40′47″ N., Long. 78°55′42″ W.)

North Myrtle Beach, Grand Strand Airport, SC

(Lat. 33°48′42″ N., Long. 78°43′26″ W.)

That airspace extending upward from 700 feet above the surface within a 7-mile radius of the Myrtle Beach International Airport and within an 8-mile radius of Grand Strand Airport.

* * * * *

Issued in College Park, Georgia, on December 9, 2009.
Barry A. Knight,
Acting Manager, Operations Support Group, Eastern Service Center, Air Traffic Organization.

[FR Doc. E9-30288 Filed 12-30-09; 8:45 am]

BILLING CODE 4910-13-P